DEPARTMENT OF STATE

[Public Notice 4951]

30-Day Notice of Proposed Information Collection: Irish Peace Process Cultural and Training Program (IPPCTP) Employer Information Collection; 1405-0124

ACTION: Notice of request for public comment and submission to OMB of proposed collection of information.

SUMMARY: The Department of State has submitted the following information collection request to the Office of Management and Budget (OMB) for approval in accordance with the Paperwork Reduction Act of 1995.

• Title of Information Collection: Irish Peace Process Cultural and Training Program Employer Information Collection.

• OMB Control Number: 1405-0124.

• Type of Request: Extension of a Currently Approved Collection.

• Originating Office: Bureau of European and Eurasian Affairs, Office of United Kingdom, Benelux, and Ireland Affairs—EUR/UBI.

• Form Number: N/A.

• Respondents: Entities wishing to provide employment and individuals participating in the program.

• Estimated Number of Respondents: 261.

• Estimated Number of Responses: 411.

• Average Burden per Response: Range: 2-30 minutes per response. Median: 10 minutes per response.

• Total Estimated Burden: 99 hours.

• Frequency: On occasion.

• Obligation To Respond: Required to Obtain or Retain a Benefit.

DATE(S): Comments may be submitted to the Office of Management and Budget (OMB) for up to 30 days from February 7, 2005.

ADDRESSES: Comments and questions should be directed to Alex Hunt, the State Department Desk Officer in Office of Information and Regulatory Affairs at the Office of Management and Budget (OMB), who may be reached at (202) 395-7860. You may submit comments by any of the following methods:

• E-mail: ahunt@omb.eop.gov. You must include the DS form number (if applicable), information collection title, and OMB control number in the subject line of your message.

• Hand Delivery or Courier: OIRA State Department Desk Officer, Office of Management and Budget, 725 17th Street, NW., Washington, DC 20503.

• Fax: (202) 395-6974.

FOR FURTHER INFORMATION CONTACT: Copies of the proposed information collection and supporting documents may be obtained from Michael O'Malley, Country Desk Officer for Ireland and Northern Ireland Affairs, Bureau of European and Eurasian Affairs, Room 5428, U.S. Department of State, Washington, DC 20520, who may be reached on (202) 647-5674 or via e-mail at omalleyme@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The collection requests information from (a) entities wishing to provide employment opportunities to participants in the congressionally-mandated Irish Peace Process Cultural and Training Program (IPPCTP), and (b) individuals selected for participation in the IPPCTP.

Methodology: Information will be collected by the Program Administrator directly from interested employers and participants, either via e-mail or hard copies. Prospective employers will be expected to provide background information about the company and jobs being offered, as well as reports on participants' work experience once involved in the program. Participants will need to provide background/resume information, a photograph, and tracking information during pre-departure training.

Dated: December 21, 2004.
Matthias Mitman,
Director, Acting, Office for United Kingdom, Benelux and Ireland, Bureau of European and Eurasian Affairs, Department of State.

[FR Doc. 05-275 Filed 1-5-05; 8:45 am]

BILLING CODE 4710-23-P